DEPARTMENT OF THE INTERIOR

Bureau of Reclamation

Colorado River Basin Salinity Control Advisory Council

AGENCY: Bureau of Reclamation, Interior.

ACTION: Notice of public meeting.

SUMMARY: The Colorado River Basin Salinity Control Advisory Council (Council) was established by the Colorado River Basin Salinity Control Act of 1974 (Pub. L. 93-320) (Act) to receive reports and advise federal agencies on implementing the Act. In accordance with the Federal Advisory Committee Act, the Bureau of Reclamation announces that the Council will meet as detailed below.

Dates and Location: The Advisory Council will conduct its annual meeting at the following time and location:

October 29, 2002—San Diego, California. The meeting will begin at 8:30 a.m. and recess at 12:30 p.m. and reconvene briefly the following day at 1 p.m. The meeting will be held in the Shelter Pointe Hotel and Marina, on Shelter Island, at 1551 Shelter Island Drive.

Agenda: The purpose of the meeting will be to discuss the accomplishments of federal agencies and make recommendations on future activities to control salinity. Council members will be briefed on the status of salinity control activities and receive input for drafting the Council's annual report. The Bureau of Reclamation, Bureau of Land Management, Fish and Wildlife Service, and United States Geological Survey of the Department of the Interior; the Natural Resources Conservation Service of the Department of Agriculture; and the Environmental Protection Agency will each present a progress report and a schedule of activities on salinity control in the Colorado River Basin. The Council will discuss salinity control activities and the contents of the reports.

The meeting of the Council is open to the public. Any member of the public may file written statements with the Council before, during, or up to 30 days after the meeting, in person or by mail. To the extent that time permits, the Council chairman may allow public presentation of oral statements at the meeting. To allow full consideration of information by the Advisory Council members, written notice must be provided to Kib Jacobson, Bureau of Reclamation, Upper Colorado Regional Office, 125 South State Street, Room 6107, Salt Lake City, Utah 84138-1102; telephone (801) 524-3753; faxogram (801) 524-5499; e-mail at: kjacobson@uc.usbr.gov at least FIVE (5) days prior to the meeting. Any written comments received prior to the meeting will be provided to the Advisory Council members at the meeting.

It is the Bureau of Reclamation's practice to make comments, including names and home addresses of respondents, available for public review. Individual respondents may request that their home address be withheld from public disclosure, which will be honored to the full extent allowable by law. To have your name and/or address withheld, please state this prominently at the beginning of your comment. Submissions from organizations or businesses, and from individuals identifying themselves as representatives or officials of organizations or businesses, will be made available for public disclosure in their entirety.

FOR FURTHER INFORMATION CONTACT: Kib Jacobson, telephone (801) 524-3753; faxogram (801) 524-5499; e-mail at: kjacobson@uc.usbr.gov.

Dated: September 13, 2002.
Darryl Beckmann,
Acting Regional Director.

[FR Doc. 02-25442 Filed 10-4-02; 8:45 am]

BILLING CODE 4310-MN-P